CIVIL RIGHTS COLD CASE RECORDS REVIEW BOARD

[Agency Docket Number: CRCCRRB-2025-0010-N]

Notice of Formal Determination on Records Release

AGENCY: Civil Rights Cold Case Records Review Board.

ACTION: Notice.

SUMMARY: The Civil Rights Cold Case Records Review Board received 602 pages of records from the National Archives and Records Administration (NARA), the Department of Justice, and the Federal Bureau of Investigation (FBI) related to three civil rights cold case incidents to which the Review Board assigned the unique identifiers 2023-002-008, 2024-003-006, and 2024-003-031. The agencies proposed 643 postponements of disclosure. On February 20, 2025, the Review Board met and approved 271 postponements, requested changes to 27 postponements, and determined that 520 pages in full and 82 pages in part should be publicly disclosed in the Civil Rights Cold Case Records Collection. By issuing this notice, the Review Board complies with section 7(c)(4) of the Civil Rights Cold Case Records Collection Act of 2018 that requires the Review Board to publish in the Federal Register its determinations on the disclosure or postponement of records in the Collection no more than 14 days after the date of its decision.

FOR FURTHER INFORMATION CONTACT: Stephannie Oriabure, Chief of Staff, Civil Rights Cold Case Records Review Board, 1800 F Street NW, Washington, DC 20405, (771) 221-0014, info@coldcaserecords.gov.

SUPPLEMENTARY INFORMATION:

Incident identifier | Postponement identifier | Review board decision
2023-002-008 | 2024-DOJ-02-0173 through 2024-DOJ-02-0179 | Approve.
2023-002-008 | 2024-DOJ-02-0180 | Approve with changes.
2023-002-008 | 2024-DOJ-02-0181 through 2024-DOJ-02-0194 | Approve.
2023-002-008 | 2024-DOJ-02-0195 | Reject.
2023-002-008 | 2024-DOJ-02-0196 | Approve with changes.
2023-002-008 | 2024-DOJ-02-0197 and 2024-DOJ-02-0198 | Reject.
2023-002-008 | 2024-DOJ-02-0199 through 2024-DOJ-02-0212 | Approve.
2023-002-008 | 2024-DOJ-02-0213 | Approve with changes.
2023-002-008 | 2024-DOJ-02-0214 | Approve.
2023-002-008 | 2024-DOJ-02-0215 through 2024-DOJ-02-0224 | Reject.
2023-002-008 | 2024-DOJ-02-0225 through 2024-DOJ-02-0228 | Approve.
2023-002-008 | 2024-DOJ-02-0229 through 2024-DOJ-02-0235 | Reject.
2023-002-008 | 2024-DOJ-02-0236 through 2024-DOJ-02-0240 | Approve.
2023-002-008 | 2024-DOJ-02-0241 | Reject.
2023-002-008 | 2024-DOJ-02-0242 | Approve.
2023-002-008 | 2024-DOJ-02-0243 | Reject.
2023-002-008 | 2024-DOJ-02-0244 | Approve.
2023-002-008 | 2024-DOJ-02-0245 | Reject.
2023-002-008 | 2024-DOJ-02-0246 and 2024-DOJ-02-0247 | Approve.
2023-002-008 | 2024-DOJ-02-0248 through 2024-DOJ-02-0267 | Reject.
2023-002-008 | 2024-DOJ-02-0268 through 2024-DOJ-02-0270 | Approve.
2023-002-008 | 2024-DOJ-02-0271 | Reject.
2023-002-008 | 2024-DOJ-02-0272 | Approve.
2023-002-008 | 2024-DOJ-02-0273 | Reject.
2023-002-008 | 2024-DOJ-02-0274 | Approve.
2023-002-008 | 2024-DOJ-02-0275 and 2024-DOJ-02-0276 | Reject.
2023-002-008 | 2024-DOJ-02-0277 and 2024-DOJ-02-0278 | Approve.
2023-002-008 | 2024-DOJ-02-0279 through 2024-DOJ-02-0292 | Reject.
2023-002-008 | 2024-DOJ-02-0293 | Approve.
2023-002-008 | 2024-DOJ-02-0294 through 2024-DOJ-02-0308 | Reject.
2023-002-008 | 2024-DOJ-02-0309 | Approve.
2023-002-008 | 2024-DOJ-02-0310 | Reject.
2023-002-008 | 2024-DOJ-02-0311 through 2024-DOJ-02-0313 | Approve.
2023-002-008 | 2024-DOJ-02-0314 through 2024-DOJ-02-0319 | Reject.
2023-002-008 | 2024-DOJ-02-0320 | Approve.
2023-002-008 | 2024-DOJ-02-0321 through 2024-DOJ-02-0329 | Reject.
2023-002-008 | 2024-FBI-02-0603 through 2024-FBI-02-0605 | Reject.
2023-002-008 | 2024-FBI-02-0606 | Approve.
2023-002-008 | 2024-FBI-02-0607 through 2024-FBI-02-0641 | Reject.
2023-002-008 | 2024-FBI-02-0642 through 2024-FBI-02-0646 | Approve.
2023-002-008 | 2024-FBI-02-0647 through 2024-FBI-02-0680 | Reject.
2023-002-008 | 2024-FBI-02-0681 | Approve.
2023-002-008 | 2024-FBI-02-0682 through 2024-FBI-02-0685 | Reject.
2023-002-008 | 2024-FBI-02-0686 through 2024-FBI-02-0692 | Approve.
2023-002-008 | 2024-FBI-02-0693 | Reject.
2023-002-008 | 2024-FBI-02-0694 through 2024-FBI-02-0697 | Approve.
2023-002-008 | 2024-FBI-02-0698 | Reject.
2023-002-008 | 2024-FBI-02-0699 through 2024-FBI-02-0701 | Approve.
2023-002-008 | 2024-FBI-02-0702 | Reject.
2023-002-008 | 2024-FBI-02-0703 | Approve.
2023-002-008 | 2024-FBI-02-0704 | Reject.
2023-002-008 | 2024-FBI-02-0705 and 2024-FBI-02-0706 | Approve.
2023-002-008 | 2024-FBI-02-0707 through 2024-FBI-02-0710 | Reject.
2023-002-008 | 2024-FBI-02-0711 | Approve.
2023-002-008 | 2024-FBI-02-0712 | Reject.
2023-002-008 | 2024-FBI-02-0713 and 2024-FBI-02-0714 | Approve.
2023-002-008 | 2024-FBI-02-0715 and 2024-FBI-02-0716 | Reject.
2023-002-008 | 2024-FBI-02-0717 | Approve.
2023-002-008 | 2024-FBI-02-0718 through 2024-FBI-02-0722 | Reject.
2023-002-008 | 2024-FBI-02-0723 through 2024-FBI-02-0725 | Approve.
2023-002-008 | 2024-FBI-02-0726 through 2024-FBI-02-0728 | Reject.
2023-002-008 | 2024-FBI-02-0729 and 2024-FBI-02-0730 | Approve.
2023-002-008 | 2024-FBI-02-0731 | Reject.
2023-002-008 | 2024-FBI-02-0732 | Approve.
2023-002-008 | 2024-FBI-02-0733 through 2024-FBI-02-0735 | Reject.
2023-002-008 | 2024-FBI-02-0736 through 2024-FBI-02-0738 | Approve.
2023-002-008 | 2024-FBI-02-0739 | Reject.
2023-002-008 | 2024-FBI-02-0740 | Approve.
2023-002-008 | 2024-FBI-02-0741 | Reject.
2023-002-008 | 2024-FBI-02-0742 | Approve.
2023-002-008 | 2024-FBI-02-0743 through 2024-FBI-02-0745 | Reject.
2023-002-008 | 2024-FBI-02-0746 | Approve.
2023-002-008 | 2024-FBI-02-0747 through 2024-FBI-02-0752 | Reject.
2023-002-008 | 2024-FBI-02-0753 | Approve.
2023-002-008 | 2024-FBI-02-0754 through 2024-FBI-02-0759 | Reject.
2023-002-008 | 2024-FBI-02-0760 | Approve.
2023-002-008 | 2024-FBI-02-0761 and 2024-FBI-02-0762 | Reject.
2023-002-008 | 2024-FBI-02-0763 through 2024-FBI-02-0777 | Approve.
2023-002-008 | 2024-FBI-02-0778 | Approve with changes.
2023-002-008 | 2024-FBI-02-0779 and 2024-FBI-02-0780 | Approve.
2023-002-008 | 2024-FBI-02-0781 | Reject.
2023-002-008 | 2024-FBI-02-0782 | Approve.
2023-002-008 | 2024-FBI-02-0783 and 2024-FBI-02-0784 | Reject.
2023-002-008 | 2024-FBI-02-0785 | Approve.
2023-002-008 | 2024-FBI-02-0786 | Reject.
2023-002-008 | 2024-FBI-02-0787 | Approve.
2023-002-008 | 2024-FBI-02-0788 | Reject.
2023-002-008 | 2024-FBI-02-0789 through 2024-FBI-02-0792 | Approve.
2023-002-008 | 2024-FBI-02-0793 and 2024-FBI-02-0794 | Reject.
2023-002-008 | 2024-FBI-02-0795 and 2024-FBI-02-0796 | Approve.
2023-002-008 | 2024-FBI-02-0797 and 2024-FBI-02-0798 | Reject.
2023-002-008 | 2024-FBI-02-0799 through 2024-FBI-02-0803 | Approve.
2023-002-008 | 2024-FBI-02-0804 | Approve with changes.
2023-002-008 | 2024-FBI-02-0805 | Reject.
2023-002-008 | 2024-FBI-02-0806 through 2024-FBI-02-0809 | Approve.
2023-002-008 | 2024-FBI-02-0810 | Reject.
2023-002-008 | 2024-FBI-02-0811 through 2024-FBI-02-0820 | Approve.
2023-002-008 | 2024-FBI-02-0821 | Reject.
2023-002-008 | 2024-FBI-02-0822 | Approve.
2023-002-008 | 2024-FBI-02-0823 | Approve with changes.
2023-002-008 | 2024-FBI-02-0824 through 2024-FBI-02-0826 | Approve.
2023-002-008 | 2024-FBI-02-0827 | Approve with changes.
2023-002-008 | 2024-FBI-02-0828 | Approve.
2023-002-008 | 2024-FBI-02-0829 | Approve with changes.
2023-002-008 | 2024-FBI-02-0830 | Approve.
2023-002-008 | 2024-FBI-02-0831 | Approve with changes.
2023-002-008 | 2024-FBI-02-0832 | Approve.
2023-002-008 | 2024-FBI-02-0833 | Approve with changes.
2023-002-008 | 2024-FBI-02-0834 through 2024-FBI-02-0836 | Approve.
2023-002-008 | 2024-FBI-02-0837 | Reject.
2023-002-008 | 2024-FBI-02-0838 and 2024-FBI-02-0839 | Approve.
2023-002-008 | 2024-FBI-02-0840 through 2024-FBI-02-0853 | Reject.
2023-002-008 | 2024-FBI-02-0854 | Approve.
2023-002-008 | 2024-FBI-02-0855 | Reject.
2023-002-008 | 2024-FBI-02-0856 | Approve.
2023-002-008 | 2024-FBI-02-0857 through 2024-FBI-02-0861 | Reject.
2023-002-008 | 2024-FBI-02-0862 through 2024-FBI-02-0865 | Approve.
2023-002-008 | 2024-FBI-02-0866 | Reject.
2023-002-008 | 2024-FBI-02-0867 through 2024-FBI-02-0875 | Approve.
2023-002-008 | 2024-FBI-02-0876 | Reject.
2023-002-008 | 2024-FBI-02-0877 | Approve.
2023-002-008 | 2024-FBI-02-0878 | Approve with changes.
2023-002-008 | 2024-FBI-02-0879 through 2024-FBI-02-0890 | Reject.
2023-002-008 | 2024-FBI-02-0891 | Approve.
2023-002-008 | 2024-FBI-02-0892 through 2024-FBI-02-0900 | Reject.
2023-002-008 | 2024-FBI-02-0901 | Approve.
2023-002-008 | 2024-FBI-02-0902 and 2024-FBI-02-0903 | Reject.
2023-002-008 | 2024-FBI-02-0904 | Approve.
2023-002-008 | 2024-FBI-02-0905 through 2024-FBI-02-0912 | Reject.
2023-002-008 | 2024-FBI-02-0913 | Approve.
2023-002-008 | 2024-FBI-02-0914 through 2024-FBI-02-0918 | Reject.
2023-002-008 | 2024-FBI-02-0919 | Approve.
2023-002-008 | 2024-FBI-02-0920 | Reject.
2023-002-008 | 2024-FBI-02-0921 | Approve.
2023-002-008 | 2024-FBI-02-0922 and 2024-FBI-02-0923 | Reject.
2023-002-008 | 2024-FBI-02-0924 | Approve.
2023-002-008 | 2024-FBI-02-0925 through 2024-FBI-02-0940 | Reject.
2023-002-008 | 2024-FBI-02-0941 | Approve.
2023-002-008 | 2024-FBI-02-0942 | Reject.
2023-002-008 | 2024-FBI-02-0943 | Approve.
2023-002-008 | 2024-FBI-02-0944 through 2024-FBI-02-0947 | Reject.
2023-002-008 | 2024-FBI-02-0948 through 2024-FBI-02-0951 | Approve.
2023-002-008 | 2024-FBI-02-0952 | Reject.
2023-002-008 | 2024-FBI-02-0953 through 2024-FBI-02-0960 | Approve.
2023-002-008 | 2024-FBI-02-0961 | Reject.
2023-002-008 | 2024-FBI-02-0962 | Approve with changes.
2023-002-008 | 2024-FBI-02-0963 | Approve.
2023-002-008 | 2024-FBI-02-0964 through 2024-FBI-02-0977 | Reject.
2023-002-008 | 2024-FBI-02-0978 and 2024-FBI-02-0979 | Approve.
2023-002-008 | 2024-FBI-02-0980 and 2024-FBI-02-0981 | Reject.
2023-002-008 | 2024-FBI-02-0982 through 2024-FBI-02-0986 | Approve.
2023-002-008 | 2024-FBI-02-0987 | Approve with changes.
2023-002-008 | 2024-FBI-02-0988 | Reject.
2023-002-008 | 2024-FBI-02-0989 through 2024-FBI-02-0992 | Approve.
2023-002-008 | 2024-FBI-02-0993 | Reject.
2023-002-008 | 2024-FBI-02-0994 through 2024-FBI-02-1003 | Approve.
2023-002-008 | 2024-FBI-02-1004 | Reject.
2023-002-008 | 2024-FBI-02-1005 | Approve.
2023-002-008 | 2024-FBI-02-1006 | Approve with changes.
2023-002-008 | 2024-FBI-02-1007 through 2024-FBI-02-1009 | Approve.
2023-002-008 | 2024-FBI-02-1010 | Approve with changes.
2023-002-008 | 2024-FBI-02-1011 | Approve.
2023-002-008 | 2024-FBI-02-1012 | Approve with changes.
2023-002-008 | 2024-FBI-02-1013 | Approve.
2023-002-008 | 2024-FBI-02-1014 | Approve with changes.
2023-002-008 | 2024-FBI-02-1015 | Approve.
2023-002-008 | 2024-FBI-02-1016 | Approve with changes.
2023-002-008 | 2024-FBI-02-1017 through 2024-FBI-02-1019 | Approve.
2024-003-006 | 2024-NARA-03-0009 | Approve with changes.
2024-003-006 | 2024-NARA-03-0010 through 2024-NARA-03-0013 | Approve.
2024-003-006 | 2024-NARA-03-0014 | Approve with changes.
2024-003-006 | 2024-NARA-03-0015 and 2024-NARA-03-0016 | Approve.
2024-003-006 | 2024-NARA-03-0017 | Reject.
2024-003-006 | 2024-NARA-03-0018 and 2024-NARA-03-0019 | Approve.
2024-003-006 | 2024-NARA-03-0020 | Approve with changes.
2024-003-006 | 2024-NARA-03-0021 through 2024-NARA-03-0032 | Approve.
2024-003-006 | 2024-NARA-03-0033 through 2024-NARA-03-0035 | Approve with changes.
2024-003-006 | 2024-NARA-03-0036 through 2024-NARA-03-0040 | Approve.
2024-003-006 | 2024-NARA-03-0041 through 2024-NARA-03-0043 | Approve with changes.
2024-003-006 | 2024-NARA-03-0044 through 2024-NARA-03-0058 | Approve.
2024-003-006 | 2024-NARA-03-0059 through 2024-NARA-03-0072 | Reject.
2024-003-031 | 2024-NARA-03-0073 through 2024-NARA-03-0076 | Reject.
2024-003-031 | 2024-NARA-03-0077 | Approve.

Authority: Pub. L. 115-426, 132 Stat. 5489 (44 U.S.C. 2107).

Dated: February 26, 2025.
Stephannie Oriabure,
Chief of Staff.

[FR Doc. 2025-03419 Filed 3-3-25; 8:45 am]

BILLING CODE 6820-SY-P